DEPARTMENT OF COMMERCE

Submission For OMB Review; Comment Request

DOC has submitted to the Office of Management and Budget (OMB) for clearance the following proposal for collection of information under the provisions of the Paperwork Reduction Act (44 U.S.C. chapter 35).

AGENCY: U.S. Census Bureau.

Title: 2003 Service Annual Survey (SAS).

Form Number(s): SA-484, SA-492, SA-493, SA-511, SA-512, SA-513, SA-514, SA-523, SA-532, SA-541, SA-560, SA-621, SA-622, SA-623, SA-624, SA-711, SA-712, SA-713, SA-811, SA-812, SA-813.

Agency Approval Number: 0607-0422.

Type of Request: Revision of a currently approved collection.

Burden: 89,930 hours.

Number of Respondents: 44,996.

Avg Hours Per Response: 2 hours.

Needs and Uses: Today, about 50 percent of all economic activity is accounted for by services that are narrowly defined to exclude retail and wholesale trade. The Census Bureau currently measures the total output of most of these service industries annually in its Service Annual Survey (SAS). This survey now covers all or some of the following nine sectors: Transportation and Warehousing; Information; Finance and Insurance; Real Estate and Rental and Leasing; Professional, Scientific, and Technical Services; Administration and Support and Waste Management and Remediation Services; Health Care and Social Assistance; Arts, Entertainment, and Recreation; and Other Services.

The Census Bureau will expand the SAS to provide data on product composition of service industry output and to provide data that will improve the quality of value-added measures for these service industries.

We will begin to implement, incrementally, the collection of detailed service products defined in the provisional North American Product Classification System (NAPCS) into the 2003 SAS. Provisional NAPCS products were added to the 2001 SAS for most of the Information Sector (NAICS 51, except 512) and Computer Systems Design and Related Services (NAICS 5415). For 2003, we plan to add provisional NAPCS products to the Motion Picture and Sound Recording Industries (NAICS 512). In the 2004 Service Annual Survey, we will begin collecting NAPCS product detail for Professional, Scientific, and Technical Services (NAICS 54); Administrative Support and Waste Management and Remediation Services (NAICS 56); and Hospitals and Nursing and Residential Care Facilities (NAICS 622 and 623). We will complete NAPCS product coverage of all remaining industries in the 2005 Service Annual Survey.

We will also collect annual data on the cost of materials and supplies other than for resale, contract labor, and purchased services in the 2003 SAS for the following: Information (NAICS 51); selected Financial Services (NAICS 5231 and 5239); Professional, Scientific, and Technical Services (NAICS 54); Administrative and Support and Waste Management and Remediation Services (NAICS 56); and Hospitals and Nursing and Residential Care Facilities (NAICS 622 and 623). For the 2004 survey, we will begin collecting these data for all remaining industries covered in the SAS.

Key data items include:

• expensed materials and supplies;

• contract labor;

• computer services with detail breakouts between custom coded software and data processing services;

• purchased communication services;

• purchased electricity;

• purchased fuels (except motor fuels);

• management consulting, administrative services, and other professional services;

• lease and rental costs,

• and all other purchased services.

The availability of these data will greatly improve the quality of the intermediate-inputs and value-added estimates in BEA's annual input-output and GDP by industry accounts. Annual data on purchased services and materials also will be used as indicators to update census year data collected on the Business Expenses Survey.

Affected Public: Businesses or other for-profit; not-for-profit institutions.

Frequency: Annually.

Respondent's Obligation: Mandatory.

Legal Authority: Title 13 U.S.C., Sections 182, 224 & 225.

OMB Desk Officer: Susan Schechter, (202) 395-5103.

Copies of the above information collection proposal can be obtained by calling or writing Diana Hynek, Departmental Paperwork Clearance Officer, (202) 482-0266, Department of Commerce, room 6625, 14th and Constitution Avenue NW., Washington, DC 20230 (or via the Internet at dhynek@doc.gov).

Written comments and recommendations for the proposed information collection should be sent within 30 days of publication of this notice to Susan Schechter, OMB Desk Officer either by fax; (202) 395-7245, or email; susan_schechter@omb.eop.gov.

Dated: November 4, 2003.
Madeleine Clayton,
Management Analyst, Office of the Chief Information Officer.

[FR Doc. 03-28117 Filed 11-6-03; 8:45 am]

BILLING CODE 3510-07-P